NUCLEAR REGULATORY COMMISSION

[Docket No. 30-10716; NRC-2020-0214]

Sigma-Aldrich Company, Fort Mims Site

AGENCY: Nuclear Regulatory Commission.

ACTION: License termination; issuance.

SUMMARY: The U.S. Nuclear Regulatory Commission (NRC) is noticing the termination of the Sigma-Aldrich Company, Fort Mims Site, Materials License No. 24-16273-01, located in Maryland Heights, MO.

DATES: The license termination for Materials License No. 24-16273-01 was issued on November 16, 2021.

ADDRESSES: Please refer to Docket ID NRC-2020-0214 when contacting the NRC about the availability of information regarding this document. You may obtain publicly available information related to this document using any of the following methods:

• Federal Rulemaking Website: Go to https://www.regulations.gov and search for Docket ID NRC-2020-0214. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: George Alexander, Office of Nuclear Material Safety and Safeguards, U.S. Nuclear Regulatory Commission, Washington, DC 20555-0001; telephone: 301-415-6755; email: George.Alexander@nrc.gov.

SUPPLEMENTARY INFORMATION:

I. Background

The Sigma-Aldrich Company's (Sigma's) Fort Mims Site is located at 11542 Fort Mims Drive, Maryland Heights, Missouri in a commercial/industrial park. The site consists of a 3-acre parcel of land previously used for the radiolabeling of chemicals with carbon-14 and tritium.

II. Discussion

By email dated August 22, 2019, the NRC received an application to amend Sigma's decommissioning plan. That application was supplemented by letter dated April 27, 2020, requesting a license amendment for the termination of NRC Materials License No. 24-16273-01, and by letter dated October 19, 2020, providing the NRC Form 313 “Application for Materials License” for this action. By email dated July 31, 2020, the NRC staff accepted for detailed technical review Sigma's license amendment request to amend the decommissioning plan and terminate the license.

The NRC staff reviewed the revised decommissioning plan with the site-specific dose model and license termination request. Based on Sigma's dose analysis and the NRC's independent and confirmatory surveys and analyses, the NRC staff concluded in a safety evaluation report dated November 16, 2021, that the Fort Mims Site met the dose criteria for unrestricted use and that the residual radioactivity is as low as reasonably achievable, consistent with section 20.1402 of title 10 of the Code of Federal Regulations, “Radiological criteria for unrestricted use.” Based on an environmental assessment dated November 12, 2021, NRC staff concluded that there would be no significant environmental impacts. Accordingly, NRC Materials License No. 24-16273-01 for the Fort Mims Site was terminated.

III. Availability of Documents

The documents identified in the following table are available to interested persons through ADAMS, as indicated.

Document | ADAMS accession No.
NRC Approval of Sigma-Aldrich Company's Fort Mims Facility Decommissioning Plan, dated May 12, 2009 | ML091330309
Sigma-Aldrich Fort Mims Site Revised Decommissioning Plan, dated June 27, 2019 | ML19273A160
Transmittal Email—Sigma-Aldrich Fort Mims Revised Decommissioning Plan, dated August 22, 2019 | ML19273A163
Sigma-Aldrich Fort Mims Site Request for License Termination, dated April 27, 2020 | ML20120A544
Transmittal Email—NRC Acceptance Review of Revised Decommissioning Plan and License Termination Request, dated July 31, 2020 | ML20213C693
Sigma-Aldrich Fort Mims Site Revised Decommissioning Plan: NRC Form 313, “Application for Materials License,” dated October 19, 2020 | ML20294A191
NRC Environmental Assessment and Finding of No Significant Impact Related to the Issuance of a License Amendment for the Sigma-Aldrich Fort Mims Site, dated November 12, 2021 | ML21277A097
NRC Safety Evaluation Report of Revised Decommissioning Plan and License Termination Request for the Sigma-Aldrich Fort Mims Site, dated November 16, 2021 | ML21300A384
NRC Materials License 24-16273-01 Termination Amendment 21, dated November 16, 2021 | ML21300A383

Dated: January 25, 2022.
For the Nuclear Regulatory Commission.
Randolph W. Von Till,
Chief, Uranium Recovery and Materials Decommissioning Branch, Division of Decommissioning, Uranium Recovery and Waste Programs, Office of Nuclear Material Safety and Safeguards.

[FR Doc. 2022-01754 Filed 1-27-22; 8:45 am]

BILLING CODE 7590-01-P